DEPARTMENT OF ENERGY

Federal Energy Regulatory Commission

Combined Notice of Filings #1

Take notice that the Commission received the following electric rate filings:

Docket Numbers: ER10-2527-002; ER10-3168-018; ER10-2960-005; ER15-356-005; ER15-357-005; ER10-2532-006; ER10-1595-005; ER10-2533-002; ER10-1598-005; ER10-2535-002; ER10-1616-005; ER12-2570-011; ER10-1618-005; ER13-618-010.

Applicants: Allegheny Ridge Wind Farm, LLC, ArcLight Energy Marketing, LLC, Astoria Generating Company, L.P., Chief Conemaugh Power, LLC, Chief Keystone Power, LLC, Crescent Ridge LLC, Crete Energy Venture, LLC, GSG, LLC, Lincoln Generating Facility, LLC, Mendota Hills, LLC, New Covert Generating Company, LLC, Panther Creek Power Operating, LLC, Rolling Hills Generating, L.L.C., Westwood Generation, LLC.

Description: Notice of Non-Material Change in Status of Allegheny Ridge Wind Farm, LLC, et. al.

Filed Date: 1/22/16.

Accession Number: 20160122-5092.

Comments Due: 5 p.m. ET 2/12/16.

Docket Numbers: ER10-2984-023.

Applicants: Merrill Lynch Commodities, Inc.

Description: Notice of Non-Material Change in Status of Merrill Lynch Commodities, Inc.

Filed Date: 1/22/16.

Accession Number: 20160122-5090.

Comments Due: 5 p.m. ET 2/12/16.

Docket Numbers: ER10-2984-024.

Applicants: Merrill Lynch Commodities, Inc.

Description: Notice of Non-Material Change in Status of Merrill Lynch Commodities, Inc.

Filed Date: 1/27/16.

Accession Number: 20160127-5226.

Comments Due: 5 p.m. ET 2/17/16.

Docket Numbers: ER15-2130-001; ER15-2131-001.

Applicants: Roosevelt Wind Project, LLC and Milo Wind Project, LLC.

Description: Notice of Non-Material Change in Status of Roosevelt Wind Project, LLC and Milo Wind Project, LLC.

Filed Date: 1/22/16.

Accession Number: 20160122-5094.

Comments Due: 5 p.m. ET 2/12/16.

Docket Numbers: ER15-2616-002.

Applicants: Midcontinent Independent System Operator, Inc.

Description: Compliance filing: 2016-01-27_MISO-PJM JOA M2M FFE Compliance Filing to be effective 11/3/2015.

Filed Date: 1/27/16.

Accession Number: 20160127-5126.

Comments Due: 5 p.m. ET 2/17/16.

Docket Numbers: ER16-202-001.

Applicants: Arizona Public Service Company.

Description: Tariff Amendment: Response to Deficiency Letter and Amended Service Agreement No. 347 to be effective 1/1/2016.

Filed Date: 1/27/16.

Accession Number: 20160127-5189.

Comments Due: 5 p.m. ET 2/17/16.

Docket Numbers: ER16-244-001.

Applicants: Southwest Power Pool, Inc.

Description: Compliance filing: 3095 Substitute Missouri River Energy Services NITSA NOA—Compliance Filing to be effective 10/1/2015.

Filed Date: 1/27/16.

Accession Number: 20160127-5161.

Comments Due: 5 p.m. ET 2/17/16.

Docket Numbers: ER16-762-000.

Applicants: AEP Texas Central Company.

Description: § 205(d) Rate Filing: TCC-La Paloma Energy Center IA Third Amend & Restated to be effective 1/5/2016.

Filed Date: 1/27/16.

Accession Number: 20160127-5007.

Comments Due: 5 p.m. ET 2/17/16.

Docket Numbers: ER16-763-000.

Applicants: NorthWestern Corporation.

Description: Notice of Termination of Service Agreement No. 602 of NorthWestern Corporation.

Filed Date: 1/22/16.

Accession Number: 20160122-5093.

Comments Due: 5 p.m. ET 2/12/16.

Docket Numbers: ER16-764-000.

Applicants: RE Astoria LLC.

Description: Baseline eTariff Filing: LGIA Co-Tenancy Agreement to be effective 3/27/2016.

Filed Date: 1/27/16.

Accession Number: 20160127-5135.

Comments Due: 5 p.m. ET 2/17/16.

Docket Numbers: ER16-765-000.

Applicants: RE Astoria LLC.

Description: § 205(d) Rate Filing: Garland Shared Facilities Agreement to be effective 3/27/2016.

Filed Date: 1/27/16.

Accession Number: 20160127-5178.

Comments Due: 5 p.m. ET 2/17/16.

Docket Numbers: ER16-766-000.

Applicants: Midcontinent Independent System Operator, Inc.

Description: Request for Waiver of Tariff of Midcontinent Independent System Operator, Inc.

Filed Date: 1/27/16.

Accession Number: 20160127-5227.

Comments Due: 5 p.m. ET 2/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2016.
Nathaniel J. Davis, Sr.,
Deputy Secretary.

[FR Doc. 2016-01917 Filed 2-2-16; 8:45 am]

BILLING CODE 6717-01-P